DEPARTMENT OF HOUSING AND URBAN DEVELOPMENT

[Docket No. FR-4491-N-09]

Notice of Intent To Prepare Draft Environmental Impact Statement for Park Lake Homes, King County, WA

AGENCY: Office of the Assistant Secretary for Community Planning and Development, HUD.

ACTION: Notice of intent.

SUMMARY: HUD gives notice to the public that King County Housing Authority (KCHA) acting under its State Environmental Policy Act (SEPA) authority, and the King County Department of Development and Environmental Services (DDES), as the Responsible Entity in accordance with 24 CFR 58.2, intends to prepare an Environmental Impact Statement (EIS) for redevelopment of the Park Lake Homes public housing community. This notice is in accordance with regulations of the Council on Environmental Quality. Federal agencies having jurisdiction by law, special expertise, or other special interest should report their interests and indicate their readiness to aid in the EIS effort as a “Cooperating Agency.”

A Draft EIS will be prepared for the proposed action described herein. Comments relating to the Draft EIS are requested and will be accepted by the contact person listed below. When the Draft EIS is completed, a notice will be sent to individuals and groups known to have an interest in the Draft EIS and particularly in the environmental impact issues identified therein. Any person or agency interested in receiving a notice and making comment on the Draft EIS should contact the person listed below within 30-days after publication of this notice.

Lead Agencies: This EIS will be a joint NEPA and Washington SEPA document intended to satisfy requirements of federal and state environmental statutes. In accordance with specific statutory authority and HUD's regulations at 24 CFR part 58 (Environmental Review Procedures for Entities Assuming HUD Environmental Responsibilities), HUD has allowed NEPA authority and NEPA lead agency responsibility to be assumed by the King County DDES in cooperation with the KCHA, as the SEPA lead agency.

ADDRESSES: All interested agencies, groups, and persons are invited to submit written comments on the project named in this notice, and the Draft EIS to the contact person shown below. The office of the contact person should receive comments and all comments so received will be considered prior to the preparation and distribution of the Draft EIS. Particularly solicited is information on reports or other environmental studies planned or completed in the project area, major issues and dates that the EIS should consider, and recommended mitigation measures and alternatives associated with the proposed project. Federal agencies having jurisdiction by law, special expertise or other special interest should report their interest and indicate their readiness to aid in the EIS effort as a “Cooperating Agency.”

FOR FURTHER INFORMATION CONTACT: Greg Borba, Planning Supervisor, King County Department of Development and Environmental Services, 900 Oaksdale Avenue SW., Renton, WA 98055-1219; Phone: (206) 296-7118; FAX: (206) 296-7051; e-mail: greg.borba@metrokc.gov.

A. Background

KCHA, acting under its SEPA authority, and the King County DDES, acting under authority of section 104(g) of the Housing and Community Development Act of 1974 (42 U.S.C. 5304(g)) and HUD's regulations at 24 CFR part 58, in cooperation with other interested agencies, will prepare an EIS to analyze potential impacts of redevelopment of the Park Lake Homes public housing community. This EIS will be a joint NEPA and Washington SEPA document intended to satisfy requirements of federal and state environmental statutes.

Park Lake Homes is KCHA's oldest and largest public housing development. Built in 1942 to serve as temporary housing for World War II defense workers, structures have been renovated several times. The KCHA received a HOPE VI grant award from HUD in November 2001, to initiate planning for the revitalization of this public housing development.

The proposed project would involve redevelopment of the existing approximately 95-acre Park Lake Homes public housing community located in the White Center area of unincorporated King County, Washington. The proposed redevelopment is consistent with requirements for a mixed-use, mixed-income housing project as described in the HOPE VI grant. The project site currently contains 569 residential units, a community center, a maintenance shop, a Head Start School, and a secondary building containing a food bank and administrative offices. The residential units are in primarily single story duplex structures.

Many or all of the current buildings on the site are to be demolished in phases, unless renovation for community services use is feasible. The existing Jim Wiley Community Center Building will likely be renovated. In addition, much of the existing infrastructure would be demolished, abandoned, or replaced, also in phases. The site would be redeveloped to provide approximately 900 dwelling units including an estimated 500 units of rental housing and 400 units of for-sale housing. It is anticipated that the rental housing would include approximately 300 units of housing to serve households of very low income and approximately 200 units of workforce housing (50%-60% of the area median income). Approximately 34,000 square feet of additional community space would also be developed to provide a range of community uses (i.e., social services, educational facilities, library, neighborhood services, commercial uses).

All existing low-income housing is planned to be replaced either on-site or elsewhere in King County through construction of public housing units on-site and project based Section 8 vouchers in existing or new housing complexes. Existing residents would be displaced and assisted with benefits according to the provisions of the Uniform Relocation Act (42 U.S.C. 4601 et seq.). Where possible, displaced residents in good standing would be allowed to return to the public housing units once redevelopment is completed.

B. Need for the EIS

The proposed project may constitute an action significantly affecting the quality of the human environment and an EIS will be prepared on this project by KCHA and the King County DDES in accordance with the National Environmental Policy Act of 1969 (42 U.S.C. 4321 et seq.). Responses to this notice will be used to, (1) determine significant environmental issues, (2) identify data that the EIS should address, and (3) identify agencies and other parties that will participate in the EIS process and the basis for their involvement.

C. Scoping

A public EIS scoping meeting will be held on February 26, 2003, at 6 p.m. The EIS scoping meeting will provide an opportunity for the public to learn more about the project and provide input to the environmental process. At the meeting, the public will be able to view graphics illustrating preliminary planning work and talk with King County DDES and KCHA staff, and members of the consultant team providing technical analysis to the project. Translators will be available. Written comments and testimony concerning the scope of the EIS will be accepted at this meeting.

The scoping meeting will be held at the Park Lake Homes Jim Wiley Community Center, which is located at 9800 8th Ave. SW., Seattle, WA 98106.

D. EIS Issues

The lead agencies have preliminarily identified the following environmental elements for discussion in the EIS: earth (geology, soils, topography); air quality; water (surface water movement/quantity, runoff/absorption, flooding, groundwater movement/quantity/quality); plants and animals; energy use; noise; land use and socioeconomic factors (land use patterns, relationship to plans/policies and regulations; population; housing and displacements); environmental justice (disproportionately high and adverse effects on minority and low income populations); historic and cultural resources; aesthetics, light and glare; parks and recreation; public services and utilities (fire, police, parks/recreation, communications, water, stormwater, sewer, solid waste); and transportation (transportation systems, parking, movement/circulation, traffic hazards).

Questions may be directed to the individual named in this notice under the heading FOR FURTHER INFORMATION CONTACT.

Dated: February 4, 2003.
Nelson R. Bregon,
Acting General Deputy Assistant Secretary for Community Planning and Development.

[FR Doc. 03-3229 Filed 2-7-03; 8:45 am]

BILLING CODE 4210-29-P